DEPARTMENT OF THE INTERIOR

Fish and Wildlife Service

[FWS-R9-IA-2010-N226; 96300-1671-0000-P5]

Endangered Species; Receipt of Applications for Permit

AGENCY: Fish and Wildlife Service, Interior.

ACTION: Notice of receipt of applications for permit.

SUMMARY: We, the U.S. Fish and Wildlife Service, invite the public to comment on the following applications to conduct certain activities with endangered species. With some exceptions, the Endangered Species Act (ESA) prohibits activities with listed species unless a Federal permit is issued that allows such activities. The ESA requires that we invite public comment before issuing these permits.

DATES: We must receive comments or requests for documents or comments on or before November 15, 2010.

ADDRESSES: Brenda Tapia, Division of Management Authority, U.S. Fish and Wildlife Service, 4401 North Fairfax Drive, Room 212, Arlington, VA 22203; fax (703) 358-2280; or e-mail DMAFR@fws.gov.

FOR FURTHER INFORMATION CONTACT: Brenda Tapia, (703) 358-2104 (telephone); (703) 358-2280 (fax); DMAFR@fws.gov (e-mail).

SUPPLEMENTARY INFORMATION:

I. Public Comment Procedures

A. How do I request copies of applications or comment on submitted applications?

Send your request for copies of applications or comments and materials concerning any of the applications to the contact listed under ADDRESSES. Please include the Federal Register notice publication date, the PRT-number, and the name of the applicant in your request or submission. We will not consider requests or comments sent to an e-mail or address not listed under ADDRESSES. If you provide an e-mail address in your request for copies of applications, we will attempt to respond to your request electronically.

Please make your requests or comments as specific as possible. Please confine your comments to issues for which we seek comments in this notice, and explain the basis for your comments. Include sufficient information with your comments to allow us to authenticate any scientific or commercial data you include.

The comments and recommendations that will be most useful and likely to influence agency decisions are: (1) Those supported by quantitative information or studies; and (2) Those that include citations to, and analyses of, the applicable laws and regulations. We will not consider or include in our administrative record comments we receive after the close of the comment period (see DATES) or comments delivered to an address other than those listed above (see ADDRESSES).

B. May I review comments submitted by others?

Comments, including names and street addresses of respondents, will be available for public review at the address listed under ADDRESSES. The public may review documents and other information applicants have sent in support of the application unless our allowing viewing would violate the Privacy Act or Freedom of Information Act. Before including your address, phone number, e-mail address, or other personal identifying information in your comment, you should be aware that your entire comment—including your personal identifying information—may be made publicly available at any time. While you can ask us in your comment to withhold your personal identifying information from public review, we cannot guarantee that we will be able to do so.

II. Background

To help us carry out our conservation responsibilities for affected species, the Endangered Species Act of 1973, section 10(a)(1)(A), as amended (16 U.S.C. 1531 et seq.), require that we invite public comment before final action on these permit applications.

III. Permit Applications

A. Endangered Species

Applicant: Stephen Dunbar, Loma Linda University, Loma Linda, CA; PRT-15386A

The applicant requests a permit to import biological specimens from wild sea turtles (Eretmochelys imbricata, Chelonia mydas, and Lepidochelys olivacea) from both coasts of Honduras for the purpose of scientific research. This notification covers activities to be conducted by the applicant over a 1-year period.

Applicant: The Phoenix Zoo, Phoenix, AZ; PRT-22630A

The applicant requests a permit to import biological specimens from captive-bred Arabian oryx (Oryx leucoryx) from Jordan for the purpose of scientific research. This notification covers activities to be conducted over a 1-year period.

Applicant: Busch Gardens, Tampa, FL; PRT-22130A

The Fish and Wildlife Service is extending the comment period for this application. A notice of receipt of this application for a permit was published in the Federal Register on October 7, 2010 (75 FR 62139). We are extending the comment period because the number of cheetah (Acinonyx jubatus) is actually seven, not six.

Applicant: Hawthorn Corporation, Grayslake, IL; PRT—058670, 068239, 068240, 13186A, 13187A, and 13188A

The applicant requests the re-issuance of three permits and the issuance of three new permits for the export/re-export and re-import of tigers (Panthera tigris) to worldwide locations for the purpose of enhancement of the species. The permit numbers and animals are [058670, Xena; 068239, Sharm; 068240, Jeeva; 13186A, Fatima; 13187A, SahiB2; 13188A, Mausumi]. This notification covers activities to be conducted by the applicant over a 3-year period and the import of any potential progeny born while overseas.

Applicant: Ronald Mika, Alpine, UT; PRT-23733A

The applicant requests a permit to import a sport-hunted trophy of one male bontebok (Damaliscus pygargus pygargus) culled from a captive herd maintained under the management program of the Republic of South Africa, for the purpose of enhancement of the survival of the species.

Dated: October 8, 2010.
Brenda Tapia,
Program Analyst/Data Administrator, Branch of Permits, Division of Management Authority.

[FR Doc. 2010-25856 Filed 10-13-10; 8:45 am]

BILLING CODE 4310-55-P